DEPARTMENT OF THE INTERIOR

Bureau of Land Management

[AZ-320-1610-DQ-091A]

Notice of Availability of Proposed Resource Management Plan and Final Environmental Impact Statement for the Yuma Field Office

AGENCY: Bureau of Land Management, Department of the Interior.

ACTION: Notice of availability.

SUMMARY: In accordance with the National Environmental Policy Act of 1969 and the Federal Land Policy and Management Act of 1976, the Bureau of Land Management (BLM) has prepared a Proposed Resource Management Plan/Final Environmental Impact Statement (PRMP/FEIS) for the Yuma Field Office.

DATES: BLM Planning Regulations (43 CFR 1610.5-2) state that any person who participated in the planning process, and has an interest that may be adversely affected, may protest the BLM's Proposed RMP. The protest must be filed within 30 days of the date that the Environmental Protection Agency publishes its notice of availability in the Federal Register. Instructions for filing of protests are described in the Dear Reader letter of the Yuma Field Office PRMP/FEIS and included in the Supplementary Information section of this notice.

ADDRESSES: Copies of the Yuma Field Office PRMP/FEIS have been sent to affected Federal, state, and local government agencies and to interested parties. Copies of the proposed Plan/Final EIS are available for public inspection at Yuma Field Office, 2555 Gila Ridge Road, Yuma, Arizona 85365. Interested persons may also review the proposed plan/Final EIS on the Internet at http://www.blm.gov/az/LUP/yuma/yuma_plan.htm.

FOR FURTHER INFORMATION CONTACT: David Daniels, Bureau of Land Management, 2555 Gila Ridge Road, Yuma, Arizona 85365 or 928-317-3200.

SUPPLEMENTARY INFORMATION: The planning area encompasses more than 1.3 million acres of BLM-administered lands. The PRMP/FEIS includes strategies for protecting and preserving the biological, cultural, recreational, geological, educational, scientific, and scenic values that balance multiple uses of the BLM-administered lands throughout the Yuma Field Office planning area. Four primary issues were raised and addressed through this planning process: (1) Determining appropriate management of transportation and public access regarding off-highway use, proliferation of routes, and vehicle restrictions and/or limitations, (2) determining appropriate provisions for recreational demand and use that are compatible with natural, biological, and cultural resources on BLM-administered lands, (3) the need to manage and protect fish and wildlife habitat including threatened and endangered species including the southwestern willow flycatcher, Yuma clapper rail, razor back sucker, Mojave desert tortoise, and Sonoran pronghorn and (4) the management of BLM-administered public lands with wilderness characteristics.

The Proposed Plan attempts to accomplish the above through coordination with the Bureau of Reclamation, U.S. Fish and Wildlife Service, Arizona Department of Transportation, Arizona State Land Department, Arizona Game and Fish Department, California Department of Fish and Game, the BLM, and other land-managing agencies within the boundaries of the planning areas. The range of alternatives in this PRMP/FEIS evaluates planning decisions brought forward from current BLM planning documents; the Yuma District Resource Management Plan (1987), the Lower Gila South Resource Management Plan (1988), and the Lower Gila North Management Framework Plan (1983).

The Proposed Plan identifies two existing Areas of Critical Environmental Concern (ACECs): Big Marias ACEC (4,500 acres) and Gila River Cultural ACEC (3,700 acres). The Proposed Plan identifies one potential ACEC: Dripping Springs ACEC (11,700 acres). The Proposed Plan also identifies the expansion of the Gila River Cultural ACEC (28,500 acres), which would officially be renamed the Sears Point Cultural ACEC.

The following types of resource use limitations would generally apply to these ACECs: (1) Allowable uses would be limited to those which are compatible with the natural or cultural resources for which the area is designated, (2) recreation facilities would be limited to projects that protect ACEC values; (3) travel would be permitted only on designated open and signed routes. For detailed information see Chapter 2 of the Proposed Plan, Description of Alternatives, Special Designations Management.

Comments on the Draft RMP/Draft EIS received from the public and internal BLM review were incorporated into the Proposed Plan. Public comments resulted in eliminating Backcountry Byways, eliminating new OHV open areas and the addition of clarifying text, but did not significantly change proposed land use decisions.

As noted above, instructions for filing a protest with the Director of the BLM regarding the Proposed Plan/Final EIS may be found at 43 CFR 1610.5. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov.

All protests, including the follow-up letter (if e-mailing or faxing) must be in writing and mailed to the following address: Regular Mail: Director (210), Attention: Brenda Williams, P.O. Box 66538, Washington, DC 20035. Overnight Mail: Director (210), Attention: Brenda Williams, 1620 L Street, NW., Suite 1075, Washington, DC 20036.

Before including your phone number, e-mail address, or other personal identifying information in your protest, you should be aware that your entire protest—including your personal identifying information—may be made publicly available at any time. While you can ask us in your protest to withhold your personal identifying information from public review, we cannot guarantee that we will be able to do so.

Dated: December 11, 2007.
Helen M. Hankins,
Arizona Associate State Director.

[FR Doc. E8-7622 Filed 4-10-08; 8:45 am]

BILLING CODE 4310-32-P